DEPARTMENT OF THE INTERIOR

Bureau of Land Management

[223.LLUTY02000.L16100000.DQ0000.LXLUBENM0000]

Notice of Intent To Prepare a Resource Management Plan for the Bears Ears National Monument in Utah and an Associated Environmental Impact Statement

AGENCY: Bureau of Land Management, Interior. USDA Forest Service, Agriculture.

ACTION: Notice of intent.

SUMMARY: In compliance with the National Environmental Policy Act of 1969, as amended (NEPA), the Federal Land Policy and Management Act of 1976, as amended (FLPMA), the National Forest Management Act of 1976 (NFMA), and Presidential Proclamation 10285, the Bureau of Land Management (BLM) Utah State Director and the U.S. Department of Agriculture Forest Service (USDA Forest Service) Manti-La Sal National Forest Supervisor intend to revise a resource management plan (RMP) with an associated environmental impact statement (EIS) for the Bears Ears National Monument (BENM) and by this notice announce the beginning of the scoping period to solicit public comments and identify issues, provide the planning criteria for public review, and issue a call for nominations for areas of critical environmental concern (ACECs) on lands managed by the BLM. The BLM is leading the NEPA process in partnership with the USDA Forest Service, which will make a decision for the USDA Forest Service-managed lands based on the analysis in the EIS. The Bears Ears Commission will play an integral role in the development of the EIS and RMP. The RMP revision would replace the BLM Indian Creek and Shash Jáa Monument Management Plans (2020) and the Approved Plan Amendment for the Manti-La Sal National Forest Bears Ears National Monument Shash Jáa Unit (2020). The RMP revision would also replace the applicable portions of the BLM's Monticello RMP (2008) and Moab RMP (2008) and Manti-La Sal National Forest's Land and Resource Management Plan (1986).

DATES: The BLM requests the public submit comments concerning the scope of the analysis, potential alternatives and identification of relevant information, studies, and ACEC nominations by October 31, 2022. To afford the BLM the opportunity to consider this information and ACEC nominations raised by commenters in the Draft RMP/EIS, please ensure your comments are received prior to the close of the 60-day scoping period or 15 days after the last public meeting, whichever is later.

The BLM also requests the public submit comments on the planning criteria by the same date identified above. The planning criteria will be made available to the public within the first 30 days of the 60-day comment period to ensure the public has at least 30 days to comment on the planning criteria as required by the planning regulations listed in 43 CFR 1610.2(e). To afford the BLM the opportunity to consider comments on the planning criteria in the Draft RMP/EIS, please ensure your comments are received prior to the close of the 60-day scoping period or 15 days after the last public meeting, whichever is later.

ADDRESSES: You may submit comments on issues and planning criteria related to the BENM RMP and nominations of new ACECs by any of the following methods:

• Website: https://eplanning.blm.gov/eplanning-ui/project/2020347/510.

• Mail: ATTN: Monument Planning, BLM Monticello Field Office, 365 North Main, Monticello, UT 84535.

Documents pertinent to this proposal may be examined online at https://eplanning.blm.gov/eplanning-ui/project/2020347/510 and at the BLM Monticello Field Office, 365 North Main, Monticello, UT 84535.

FOR FURTHER INFORMATION CONTACT: Scott M. Whitesides, Project Manager, telephone (801) 539-4054; address Bureau of Land Management Utah, 440 West 200 South Suite 500, Salt Lake City, Utah 84101; email swhitesides@blm.gov. Contact Mr. Whitesides to have your name added to our mailing list. Individuals in the United States who are deaf, deafblind, hard of hearing or have a speech disability may dial 711 (TTY, TDD, or TeleBraille) to access telecommunications relay services. Individuals outside the United States should use the relay services offered within their country to make international calls to the point-of-contact in the United States.

SUPPLEMENTARY INFORMATION: This document provides notice that the BLM Utah State Director and USDA Forest Service Manti-La Sal National Forest Supervisor intend to prepare an RMP with an associated EIS for the BENM, announces the beginning of the scoping process, seeks public input on issues and relevant planning criteria, and invites the public to nominate ACECs on lands administered by the BLM. The planning area is located in San Juan County, Utah, and encompasses approximately 1.36 million acres of Federally administered lands between the BLM (1,074,908 acres) and the USDA Forest Service (289,040 acres). While most of the BLM-adminstered lands are within the BLM Monticello Field Office planning area, approximately 8,835 acres are located within the BLM Moab Field Office planning area. Within the exterior boundary of the BENM, there are private inholdings, land owned by the State of Utah School and Institutional Trust Lands Administration (SITLA), and the entirety of Natural Bridges National Monument of the National Park Service. These lands are not part of the Bears Ears National Monument and are not included in the planning effort.

Purpose and Need for the Resource Management Plan

This Resource Management Plan will provide a management framework, including goals, objectives, and management direction, to guide Monument management. Purposes and needs serve to frame issue identification, alternatives development, and effects analyses. The following purposes and desired outcomes are set forward explicitly in Presidential Proclamation 10285 or have been identified based on key present and historical BENM management challenges. Planning for these desired outcomes will be crucial for development of an RMP that provides direction for addressing critical management challenges. Associated needs and challenges that the RMP will address are also summarized.

1. Protect, restore, and enhance the Monument's objects and values in large, remote, rugged, and connected landscapes. This includes the entire landscape within the Monument and the objects and values Proclamations 10285 and 9558 established the Monument to protect.

Needs and challenges: BENM is a place that holds deep cultural and spiritual connections for many communities. BENM includes a diversity of ecotypes, geological and paleontological resources, vegetation, and wildlife. During the last century, uranium mining activities and livestock grazing have been common activities in this part of Southeast Utah. Mining activity within BENM is rare today, but livestock grazing remains an important local economic use of the landscape.

Recreational visitation is an important driver of the local economy, with the Indian Creek area becoming world-famous for rock climbing and the increased popularity of off-highway vehicle use, cultural tourism, and other forms of recreation. The increased demand on BENM's resources, and subsequently, the Monument's objects and values, poses a challenge to balance the wide variety of uses of the landscape with the protection of the Monument's objects and values. Planning decisions can define resource uses and land designations to help resolve conflicts between various uses and resource protection.

2. Protect and/or restore the historical and cultural significance of this landscape. This includes objects identified in the Proclamations such as numerous archaeological sites, modern tribal uses, other traditional descendant community uses, historic routes and trails, historic inscriptions, and historic sites.

Needs and challenges: Public visitation, permitted activities, and climate change have the potential to impact cultural resources. Traditional knowledge, interpretation, and management guidance to help inform the public and protect various cultural resources and traditional uses are needed. Planning decisions can help provide management direction to protect cultural resources and traditional uses and provide direction for a lasting and effective partnership with Tribal Nations and the Bears Ears Commission.

3. Protect and/or restore the unique and varied natural and scientific resources of these lands. This includes objects identified in the Proclamations such as biological resources including various plant communities, relic and endemic plants, diverse wildlife including unique species, and habitat for Endangered Species Act (ESA) listed species.

Needs and challenges: Increasing uses of the landscape such as rock climbing, off-highway vehicle use, and cultural tourism, whether through an organized or commercial event with a special recreation permit or by the public in general, can impact various plant and wildlife communities and habitats. Planning decisions can help reevaluate and balance the trade-offs for the desired uses of the landscape with the need to protect the Monument's biological resources identified as objects.

4. Protect and/or restore scenic qualities including night skies; natural soundscapes; diverse, visible geology; and unique areas and features.

Needs and challenges: Bears Ears National Monument is surrounded by various National Park Service and Utah State Park units designated as Dark Sky Parks, and the region is recognized for its uniquely dark night sky. Additionally, the remoteness of the region provides the opportunity for a quiet, natural soundscape and the varied geologic features provide incredibly unique scenic qualities. Planning decisions should reflect the need to protect these visual and scenic qualities identified as objects and values for Bears Ears National Monument.

5. Protect and/or restore important paleontological resources.

Needs and challenges: Bears Ears National Monument is becoming an increasingly important region for the study of paleontological resources. These resources also have ties to the stories and cultures of Tribal Nations. To protect these important resources, planning decisions should be made to support appropriate access, use, and protection of paleontological resources.

6. Ensure that management of these lands will incorporate traditional and historical knowledge related to the use and significance of the landscape.

Needs and challenges: Tribal Nations and descendant communities not only care about and learn from the cultural resources found in Bears Ears National Monument, but many of them still use portions of the landscape for traditional cultural and spiritual needs, as well as for necessary subsistence purposes. Any BLM or USDA Forest Service action has the potential to impact spiritual, traditional, or subsistence uses of the BENM landscape; therefore, it is critical that planning decisions reflect traditional knowledge and provide a framework to incorporate traditional knowledge into any future implementation activities. However, some traditional uses, such as the annual collection of firewood for personal use, may in some cases cause negative impacts to cultural resources, sensitive soils, and the woodland resource itself. Firewood collection is an important traditional use, and the planning decisions should consider how to address the potential negative impacts, while also balancing the positive aspects like fuel load reduction and subsistence needs.

7. Provide for a variety of uses on Monument lands, so long as those uses are consistent with the protection of the BENM's identified objects and values.

Needs and challenges: Public land uses within BENM, such as livestock grazing and recreation, are important to the economic opportunities and quality of life of the local communities surrounding BENM. These two uses account for the majority of visitation to BENM. Although these two uses are not identified in Presidential Proclamation 10285 as objects or values, these are discussed as important land uses in the area. Planning decisions should consider how to protect Monument objects and values with consideration of other uses of the landscape, such as livestock grazing and recreation.

Preliminary Alternatives

The BLM and USDA Forest Service will analyze alternatives that explore and evaluate different ways of achieving the purpose and need listed above. The alternatives will explore different outcomes to be addressed during this planning effort to understand the trade-offs of different land management approaches. The BLM and USDA Forest Service welcome comments on all preliminary alternatives, as well as suggestions for additional alternatives.

Planning Criteria

The planning criteria guide the planning effort and lay the groundwork for effects analysis by identifying the preliminary issues and their analytical frameworks. Preliminary issues for the planning area have been identified by BLM and USDA Forest Service personnel and from early engagement conducted for this planning effort with Federal, State, and local agencies, Tribal Nations, and stakeholders. The BLM and USDA Forest Service have identified several preliminary issues for this planning effort's analysis and will provide them for public review as part of the planning criteria within the timeframe identified in DATES above. The planning criteria are available for public review and comment at the ePlanning website (see ADDRESSES).

Summary of Expected Impacts

Consistent with protection of BENM objects and values identified in Proclamation 10285, implementation of a new RMP may impact—either beneficially or adversely—resources and uses within the BENM, including recreation, livestock grazing, soils, water, vegetation, cultural and historic resources, paleontological resources, visual resources, designated areas, social and economic values, and other human and environmental resources.

Schedule for the Decision-Making Process

The BLM and USDA Forest Service will provide additional opportunities for public participation consistent with NEPA and BLM and USDA Forest Service land use planning processes, including a 90-day comment period on the Draft RMP/EIS, then a 30-day public protest period, as well as a concurrent 60-day Governor's consistency review, on the Proposed RMP. The Draft RMP/EIS is anticipated to be ready for public review in spring 2023, and the Proposed RMP/Final EIS is anticipated to be available for public protest in winter 2024, with an Approved RMP and Record of Decision (ROD) completed in spring 2024.

Public Scoping Process

This Notice of Intent initiates the scoping period and public review of the planning criteria, which guide the development and analysis of the Draft RMP/EIS.

The BLM and USDA Forest Service will hold a total of five scoping meetings. Two scoping meetings will be held virtually. Three scoping meetings will be conducted in-person: one in Blanding, Utah, one in Monument Valley, Navajo Nation, and one in Farmington, New Mexico. Details of all meetings will be announced once known. In compliance with Department of the Interior public health guidelines, the BLM and USDA Forest Service may need to hold public meetings in a virtual format if county-level transmission of COVID-19 is “high” at the time of the public meetings. In that case, the BLM and USDA Forest Service will hold five virtual public meetings.

The specific dates and locations of these scoping meetings will be announced at least 15 days in advance through local media, social media, newspapers, and the ePlanning website (see ADDRESSES).

The ePlanning website (see ADDRESSES) also includes, or will include, background information on the BENM, planning process overview, preliminary planning criteria, and interim management guidance. You may submit comments on issues, potential alternatives, relevant information and analyses, and the preliminary planning criteria in writing to the BLM and USDA Forest Service at any public scoping meeting, or to the BLM and USDA Forest Service using one of the methods listed in the ADDRESSES section.

Areas of Critical Environmental Concern (ACECs)

There are five ACECs within BENM: San Juan, Lavender Mesa, Shay Canyon, Indian Creek, and Valley of the Gods.

This notice invites the public to comment on whether to retain the existing ACECs and whether to nominate areas on BLM-administered lands for ACEC consideration. To assist the BLM in evaluating nominations for consideration in the Draft RMP/EIS, please provide supporting descriptive materials, maps, and evidence of the relevance and importance of resources or hazards by the close of the public scoping period to facilitate timely evaluation (see DATES and ADDRESSES). The BLM has identified the anticipated issues related to the consideration of ACECs in the planning criteria.

Tribal Coordination

The Monument planning process will provide Tribal Nations multiple ways to engage, including, but not limited to, through government-to-government coordination and consultation, consultation under section 106 of the National Historic Preservation Act (NHPA) (54 U.S.C. 306108), participation as cooperating agencies, and through the Bears Ears Commission. Presidential Proclamation 10285 reconstituted the Bears Ears Commission with the terms, conditions, and obligations identified in Presidential Proclamation 9558 to provide guidance and recommendations for the development of the management plan and incorporate traditional and historical knowledge. The Bears Ears Commission is a self-governed commission consisting of one elected officer each from the Hopi Tribe, Navajo Nation, Ute Mountain Ute Tribe, Ute Indian Tribe of the Uintah and Ouray Reservation, and Pueblo of Zuni, designated by the officers' respective Tribes. On June 18, 2022, the BLM, USDA Forest Service, and the five Tribal Nations of the Bears Ears Commission signed an inter-governmental cooperative agreement to obtain input from the Commission for the development and implementation of the Monument Management Plan. The agreement also facilitates coordination and cooperative management of the federal lands within the BENM to provide consistent, effective, and collaborative management of the lands and resources. The BLM and USDA Forest Service anticipate engagement with the Bears Ears Commission during each stage of the RMP/EIS process consistent with the roles and responsibilities identified in the inter-governmental cooperative agreement. The Bears Ears Commission may also assist with developing a Tribal collaboration framework.

Cooperating Agencies

Federal, State, and local agencies, along with Tribal Nations, may request or be asked by the BLM to participate as cooperating agencies. At this time, the BLM has identified the following potential cooperating agencies:

• National Park Service,

• U.S. Fish and Wildlife Service,

• U.S. Army Corps of Engineers,

• U.S. Bureau of Reclamation,

• U.S. Department of Energy,

• Utah's Public Lands Policy Coordinating Office,

• SITLA,

• Utah State Historic Preservation Office,

• San Juan County,

• Grand County,

• City of Blanding,

• Town of Bluff,

• City of Monticello, and

• All 32 affiliated Tribal Nations that wish to participate.

Responsible Official

The Utah State Director and the Manti-La Sal National Forest Supervisor are the deciding officials for this planning effort.

Nature of Decision To Be Made

The nature of the decision to be made will be the State Director's and the Forest Supervisor's selection of land use planning decisions for managing BLM- and USDA Forest Service-administered lands, respectively, within the BENM that protect the objects and values identified in Proclamation 10285. Uses on the BENM may be allowed to the extent they are consistent with Proclamation 10285 and the protection of the objects and values within the BENM.

The USDA Forest Service gives notice that it intends to use the BLM's administrative review procedures, as provided by the USDA Forest Service 2012 Planning Rule, at 36 CFR 219.59(b). The review procedures would include a joint response from BLM and the USDA Forest Service to those who file for administrative review. If any project or site-specific decision is made in the RMP, such decision would be subject to the USDA Forest Service project-level administrative review process at 36 CFR 218.

Interdisciplinary Team

The BLM and USDA Forest Service will use an interdisciplinary approach in developing the RMP/EIS to consider the variety of resource issues and concerns identified. Specialists with expertise in various disciplines, such as cultural resources, Native American concerns, paleontology, minerals, lands/access, recreation, special designations, wildlife, livestock grazing, soils, water resources, vegetation, rangeland management, fisheries, fire management, woodlands/forestry, socioeconomics, environmental justice, visual resources, night sky, soundscapes, air quality, and climate change will be involved in the planning process.

Additional Information

The BLM and USDA Forest Service will identify, analyze, and consider mitigation to address the reasonably foreseeable impacts to resources from the proposed RMP and all analyzed alternatives and, in accordance with 40 CFR 1502.14(e), include appropriate mitigation measures not already included in the proposed plan or alternatives. Mitigation may include avoidance, minimization, rectification, reduction or elimination over time, and compensation, and may be considered at multiple scales, including the landscape scale.

The BLM and USDA Forest Service will utilize and coordinate the NEPA and land use planning processes for this planning effort to help support procedural requirements under the Endangered Species Act (16 U.S.C. 1536) and section 106 of the NHPA, as provided in 36 CFR 800.2(d)(3), including the public involvement requirements of section 106. Information about historic and cultural resources and threatened and endangered species within the area potentially affected by the proposed plan will assist the BLM and USDA Forest Service in identifying and evaluating impacts to such resources.

The BLM and USDA Forest Service will consult with Tribal Nations on a government-to-government basis in accordance with Executive Order 13175 and applicable Departmental policies. Tribal concerns, including impacts on American Indian trust assets and potential impacts on cultural resources, will be given due consideration. The BLM and USDA Forest Service intend to hold a series of government-to-government consultation meetings beginning during the public scoping period. The BLM and USDA Forest Service will send invitations to potentially affected Tribal Nations at least 30-days prior to the meetings. The BLM and USDA Forest Service will provide additional opportunities for government-to-government consultation during the NEPA process.

Before including your address, phone number, email address, or other personal identifying information in your comment, you should be aware that your entire comment—including your personal identifying information—may be made publicly available at any time. While you can ask us in your comment to withhold your personal identifying information from public review, we cannot guarantee that we will be able to do so.

(Authority: 40 CFR 1501.9 and 43 CFR 1610.2)

Gregory Sheehan,
BLM Utah State Director.

[FR Doc. 2022-18693 Filed 8-29-22; 8:45 am]

BILLING CODE 4331-25-P